DEPARTMENT OF THE INTERIOR

National Park Service

Notice of Intent To Prepare an Environmental Impact Statement for a White-tailed Deer Management Plan, Cuyahoga Valley National Park, Ohio

AGENCY: National Park Service, Department of the Interior.

ACTION: Notice of Intent.

SUMMARY: Under the provisions of the National Environmental Policy Act of 1969 (42 U.S.C. 4321 et seq.), the National Park Service (NPS) is preparing an environmental impact statement (EIS) for the White-tailed Deer Management Plan for Cuyahoga Valley National Park (Cuyahoga). The purpose of the plan/EIS is to develop a deer management plan that supports long-term protection, preservation, and restoration of native species and other park resources. A scoping brochure has been prepared that details the issues identified to date and preliminary alternatives to be considered. Copies of that information may be obtained by mail from Cuyahoga Valley National Park, 15610 Vaughn Road, Brecksville, Ohio 44141, telephone 330-650-5071, extension 1, or the Planning, Environment and Public Comment (PEPC) Web site at http://www.parkplanning.nps.gov/cuva. Once on the PEPC site, click on the link titled Cuyahoga Valley National Park Deer Management Plan/EIS.

DATES: To be most helpful to the scoping process, comments should be received within 60 days from the date this noticed is published in the Federal Register. In addition, the NPS intends to conduct public scoping open houses at the park. Please check local newspapers; the park's Web site http://www.nps.gov/cuva; or contact the name listed below to find out when and where these open houses will be held.

ADDRESSES: Information will be available for public review and comment at the park headquarters located at 15610 Vaughn Road, Brecksville, Ohio 44141.

FOR FURTHER INFORMATION CONTACT: Dr. Lisa Petit, Chief of Science and Resource Management, Cuyahoga Valley National Park, telephone, 330-650-5071, extension 1.

SUPPLEMENTARY INFORMATION: Under the provisions of the National Environmental Policy Act of 1969, the NPS is preparing an EIS for a White-tailed Deer Management Plan for Cuyahoga Valley National Park. The purpose of this plan and environmental impact statement is to develop a deer management plan that supports long-term protection, preservation, and restoration of native species and other park resources. A deer management plan is needed at this time to ensure that: Deer do not become the dominant force in the ecosystem, adversely impacting forest regeneration, sensitive vegetation and other wildlife; natural distribution, abundance, and diversity of plant and animal species do not continue to be adversely affected by the large number of white-tailed deer in Cuyahoga Valley National Park; declining forest regeneration is addressed and deer browsing does not continue at a level that eliminates or reduces forest regeneration, and that adverse changes to wildlife habitat and forest structure and composition do not occur over time; the park's cultural landscape preservation goals and mandates are not compromised by the large number of white-tailed deer in Cuyahoga Valley National Park; and the protection of park resources and values benefits from coordination with other jurisdictional entities currently implementing deer management actions.

There are a number of objectives for this plan. One objective is to develop and implement informed, scientifically defensible vegetation and wildlife impact levels and corresponding measures of deer population size that would serve as thresholds for taking adaptive management actions within the park. The plan would also ensure that deer behavior, including browsing, trampling, and seed dispersal, does not adversely affect: Natural abundance, distribution, and diversity of native herbaceous and woody plant species; native vegetative species of concern, including rare, threatened or endangered species; and native vegetative species through dispersal, spread, and facilitation of exotic, invasive species. A third objective is to maintain a healthy white-tailed deer population within the park while protecting other park resources. In addition, the plan would ensure that deer behavior does not adversely affect the cultural landscape. Finally, the plan would enhance public awareness and understanding of NPS resource management issues, policies, and mandates, as they pertain to deer management; and ensure visitors the opportunity to view healthy deer in the natural environment at population levels that do not adversely impact visitors' enjoyment of other native species in the natural landscape.

Preliminary alternatives that will be considered to meet the purpose and need include: Landscape management, fencing, reproductive control, direct reduction, and a combination of these management strategies. The continuation of current management (no action alternative) will also be analyzed.

If you wish to comment on the scoping brochure or on any other issues associated with the plan, you may submit your comments by any one of several methods. You may submit your comments online through the NPS Planning, Environment and Public Comment (PEPC) Web site at http://www.parkplanning.nps.gov/cuva. Once on the PEPC Web site, click on the link titled Cuyahoga Valley National Park Deer Management Plan/EIS. Please submit Internet comments as text files, avoiding the use of special characters and any form of encryption. Please put “Deer Management” in the subject line and include your name and return address in your message. If you do not receive a confirmation from the system that we have received your Internet message, contact Dr. Lisa Petit at 330-650-5071, extension 1, or Lisa_Petit@nps.gov. You may also mail comments to Resource Management, Cuyahoga Valley National Park, at the address given above. To aid in the scoping process, comments should be received within 60 days of the beginning of the public comment period.

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: August 29, 2006.
Ernest Quintana,
Regional Director, Midwest Region.

[FR Doc. 06-7441 Filed 9-5-06; 8:45 am]

BILLING CODE 4310-MA-M